DEPARTMENT OF THE INTERIOR

Bureau of Land Management

[BLM_NV_FRN_MO4500181706]

Notice of Public Meetings of the Sierra Front-Northern Great Basin Resource Advisory Council

AGENCY: Bureau of Land Management, Interior.

ACTION: Notice of public meetings.

SUMMARY: In accordance with the Federal Land Policy and Management Act and the Federal Advisory Committee Act, the U.S. Department of the Interior, Bureau of Land Management's (BLM) Sierra Front-Northern Great Basin Resource Advisory Council (RAC) will meet as follows.

DATES: The RAC will hold a public meeting on October 3, 2024, and participate in a field tour on October 4, 2024. The meeting will be held from 8 a.m. to 4:30 p.m. Pacific time (PT) and a virtual participation option will be available. The October 4, 2024, field tour will be from 8 a.m. to 12 p.m. PT. The meeting and field tour are open to the public.

ADDRESSES: The October 3, 2024, meeting, and the October 4, 2024, field tour will commence and conclude at the California Trail Interpretive Center, 1 Interpretive Center Way, Elko, Nevada 89801. The final agenda and virtual participation instructions will be made available to the public via social media, the BLM Sierra Front-Northern Great Basin RAC's website at https://www.blm.gov/get-involved/resource-advisory-council/near-you/nevada/sierra-front-northern-great-basin-rac, and through personal contacts two weeks in advance.

FOR FURTHER INFORMATION CONTACT: Lisa Ross, RAC Coordinator, by telephone at (775) 885-6107, or by email at lross@blm.gov. Individuals in the United States who are deaf, deafblind, hard of hearing, or have a speech disability may dial 711 (TTY, TDD, or TeleBraille) to access telecommunications relay services. Individuals outside the United States should use the relay services offered within their country to make international calls to the point-of-contact in the United States. For sign language interpretation services, language translation services, assistive listening devices, or other reasonable accommodations, please contact the individual listed above at least 14 business days before the meeting to ensure there is sufficient time to process the request. The Department of the Interior manages accommodation requests on a case-by-case basis.

SUPPLEMENTARY INFORMATION: The 15-member BLM Sierra Front-Northern Great Basin RAC serves in an advisory capacity concerning issues relating to land use planning and the management of the public land resources located within the BLM's Elko, Winnemucca, and Carson City Districts. Meetings are open to the public in their entirety and a public comment period will be held near the end of the meeting.

Agenda topics for the October 3, 2024, meeting include reports from the Carson City, Winnemucca, and Elko District Managers; an update on wild horse and burro activities; an update on fire restoration and rehabilitation efforts; and presentations on the Draft Solar Programmatic EIS, Lahontan Cutthroat Trout, and sage grouse management.

On October 4, 2024, the RAC will tour the Maggie Creek Ranch, a key BLM partner working in a collaborative effort to restore the Susie Creek watershed on both public and private lands with the goal of re-establishing Lahontan cutthroat trout. The RAC will view watershed improvements made through a combination of fencing and application of prescriptive grazing practices. Members of the public are welcome to participate in the field tour but must provide their own transportation and meals.

A public comment period will be held on October 3, 2024, at 4 p.m. PT. Depending on the number of persons wishing to speak and the time available, the amount of time for oral comments may be limited. Written public comments may be sent to the BLM office listed in the ADDRESSES section of this notice. All comments received will be provided to the RAC.

Public Disclosure of Comments: Before including your address, phone number, email address, or other personal identifying information in your comment, you should be aware that your entire comment—including your personal identifying information—may be made publicly available at any time. While you can ask us in your comment to withhold your personal identifying information from public review, we cannot guarantee that we will be able to do so.

Authority: 43 CFR 1784.4-2

Kimberly D. Dow,
Designated Federal Officer, BLM Carson City District Manager.

[FR Doc. 2024-19484 Filed 8-29-24; 8:45 am]

BILLING CODE 4331-21-P